DEPARTMENT OF ENERGY

Notice of Floodplain and Wetlands Involvement for the Floodplain Strip Adjoining the Boeing Property in Roane County, TN

AGENCY: U.S. Department of Energy.

ACTION: Notice of involvement.

SUMMARY: DOE proposes to convey to the abutting landowner, an approximate 182-acre parcel of land within the 500-year floodplain of the Clinch River, in Roane County, Tennessee. In accordance with 10 CFR 1022, Compliance with Floodplain Wetlands/ Environmental Review Requirements, DOE will prepare a floodplain and wetlands assessment and will perform this proposed action in a manner that will avoid or minimize potential harm to or within the affected floodplain and wetlands.

DATES: Comments are due to the address below no later than May 18, 2000.

ADDRESSES: Written comments should be directed to Katy Kates, Realty Officer, U.S. Department of Energy, Oak Ridge Operations Office, P.O. Box 2001, Oak Ridge, Tennessee 37831, or by facsimile at 865-576-9204.

FOR FURTHER INFORMATION CONTACT: Katy Kates, Realty Officer, U.S. Department of Energy, Oak Ridge Operations Office, P.O. Box 2001, Oak Ridge, Tennessee 37831.

For Further Information on Floodplain/Wetlands Environmental Review Requirements, Contact:

Carol M. Borgstrom, Director, Office of NEPA Policy and Assistance, EH-42, U.S. Department of Energy, 1000 Independence Avenue, SW, Washington, DC 20585

Ms. Borgstrom can also be reached at 202-586-4600, or by leaving a message at 1-800-472-2756

SUPPLEMENTARY INFORMATION: DOE proposes to convey to the abutting landowner, an approximate 182-acre parcel of land within the 500-year floodplain of the Clinch River, in Roane County, Tennessee. The conveyed property would be used as a “green space” buffer adjacent to a proposed 1,217-acre mixed-use development.

In accordance with DOE regulations for compliance with floodplain and wetlands environmental review requirements (10 CFR part 1022), DOE will prepare a floodplain and wetlands assessment for this proposed DOE action. The assessment will be included in the environmental assessment being prepared for the proposed project in accordance with the requirements of the National Environmental Policy Act. A floodplain statement of findings will be published in the Federal Register.

The potentially affected floodplain property lies along the banks of the Clinch River and adjoins the property presently identified as the Boeing property in Roane County, Tennessee. The property is situated across the Clinch River from the DOE's East Tennessee Technology Park (formerly known as the K-25 Site). In 1987, Boeing acquired the 1,217-acre property from the City of Oak Ridge, who had previously acquired the property from DOE on the same date. A tentative purchaser of the property proposes to develop lots for single-family homes, areas for apartments and condominiums, a hotel and conference center, a golf course, and a shopping district. About 500 acres of the site would be reserved for industrial purposes.

To provide a buffer and “green space” around the development, the proposed purchaser is also seeking to acquire title to the floodplain property under the jurisdictional control of DOE. The DOE Oak Ridge Operations Office would convey the property to whomever the owner of the Boeing parcel is at the time the excess parcel is ready for conveyance providing environmental or administrative considerations do not preclude such conveyance. In February 2000, the Oak Ridge City Council voted to rezone the Boeing site for mixed-use development.

Issued in Oak Ridge, Tennessee on April 24, 2000.
James L. Elmore,
Alternate National Environmental Policy Act Compliance Officer.

[FR Doc. 00-10999 Filed 5-2-00; 8:45 am]

BILLING CODE 6450-01-P